DEPARTMENT OF DEFENSE

Corps of Engineers, Department of the Army

Intent To Prepare a Draft Revised Supplemental Environmental Impact Statement II (DRSEIS II), Flood Control, Mississippi River & Tributaries, St. Johns Bayou and New Madrid Floodway, MO, First Phase

AGENCY: U.S. Army Corps of Engineers, Memphis District.

ACTION: Notice of Intent and National Environmental Policy Act Scoping Document.

SUMMARY: The DRSEIS II will supplement the final Revised Supplemental Environmental Impact Statement (RSEIS) “Flood Control, Mississippi River & Tributaries, St. Johns Bayou and New Madrid Floodway, MO, First Phase,” prepared by the U.S. Army Corps of Engineers, Memphis District, filed with the Environmental Protection Agency (EPA) on 19 July 2002. The DRSEIS is being prepared to clarify the record and address concerns that have developed since the signing of the Record of Decision (ROD) on 23 August 2003. These clarifications relate primarily to the calculation of compensatory mitigation requirements for mid-season fish rearing habitat, but may include any other relevant subjects or information such as hypoxia, cost-benefit analysis, Swampbuster provisions, the applicable discount rate, cost-share issues for levee closure, and potentially other issues.

This Notice of Intent also serves as a National Environmental Policy Act Scoping Document.

FOR FURTHER INFORMATION OR COMMENT CONTACT: Mr. Danny Ward, telephone (901) 544-0709, CEMVM-PM-E, 167 N. Main, Room B202, Memphis, TN 38103, e-mail—daniel.d.ward@mvm02.usace.army.mil, or Mr. Kevin Pigott, telephone (901) 544-4309, address as above, e-mail—kevin.r.pigott@mvm02.usace.army.mil.

SUPPLEMENTARY INFORMATION:

1. Proposed Action

The Flood Control Act of 1954 authorized the closure of a 1,500-foot gap and construction of a gated outlet in the Mississippi River levee at the lower end of the New Madrid Floodway. The Water Resources Development Act of 1986 authorized channel modifications and pumping stations for the St. Johns Bayou Basin and the New Madrid Floodway.

The First Phase of the St. Johns Bayou and New Madrid Floodway Project (Alternative 2, Authorized Project) consists of channel enlargement and improvement in the St. Johns Bayou Basin along the lower 4.5 miles of St. Johns Bayou, beginning at New Madrid, Missouri, then continuing 8.1 miles along the Birds Point New Madrid Setback Levee Ditch and ending with 10.8 miles along the St. James Ditch. The first item of work, consisting of selective clearing and snagging, has already been completed along a 4.3-mile reach of the Setback Levee Ditch beginning at the confluence with St. James Ditch.

The Authorized Project also includes a 1,000 cubic feet per second (cfs) pumping station that would be located a few hundred feet east of the existing gravity outlet at the lower end of St. Johns Bayou. The 1,500-ft gap in the Mississippi River levee at the lower end of the New Madrid Floodway would be closed. A 1,500 cfs pumping station and gravity outlet structure would be built in the levee closure at the lower end of the New Madrid Floodway. The channel enlargement work and both pumping stations are features of the St. Johns Bayou and New Madrid Floodway Project, and the levee closure is a feature of the Mississippi River Levees Project.

A final EIS, entitled Mississippi Rivers and Tributaries, Mississippi River Levees (MRL) and Channel Improvement, was prepared by the U.S. Army Corps of Engineers, Vicksburg District, in February 1976. This document was filed with the Council of Environmental Quality in April 1976. A final EIS, entitled St. Johns Bayou/New Madrid Floodway Project Final Supplemental Environmental Impact Statement, was filed in 1982. A Draft Supplemental Environmental Impact Statement (DSEIS) was prepared to supplement both of these previous documents. The DSEIS was submitted for public review and comment in April 1999. The Final Supplemental Environmental Impact Statement (FSEIS) was filed in September 2000.

The RSEIS documented the formulation and evaluation of additional alternatives to address concerns expressed by various resource agencies and environmental advocacy groups that environmental losses were not acceptable. The RSEIS included alternative levee closure locations for the New Madrid Floodway; an array of pump and gate operation alternatives that increase connectivity of the floodway with the Mississippi River to minimize impacts on fish habitat; significant avoid and minimize measures to benefit fish and wildlife resources; and mitigation measures that compensate for losses to wildlife habitat (bottomland hardwoods and agricultural areas), shorebird habitat, waterfowl habitat during February “ March, and mid-season (1 April to 15 May) fish rearing habitat. The final RSEIS was filed with EPA in July 2002.

The RSEIS expressed the Corps' analysis of unavoidable losses to mid-season fish rearing habitat as Habitat Units (HU). The RSEIS used those HU lost to calculate the required acres of compensatory mitigation. The method set out in the RSEIS was reforestation of agricultural areas. Therefore, the RSEIS stated that reforestation of 8,375 acres of agricultural areas (1,317 acres in the St. Johns Bayou Basin and 7,058 in the New Madrid Floodway) would mitigate for the unavoidable impacts to 4,213 mid-season fish rearing HU (1,884 HU in the St. Johns Basin and 2,329 HU in the New Madrid Floodway).

An inconsistency over required mitigation existed in the previous Record of Decision, State of Missouri 401-Water Quality Certification, and the Administrative Record. Therefore, the purpose of this DRSEIS II is to clarify the mitigation required in terms of HU and Average Daily Flooded Acres (ADFA). Additional mitigation features would also be investigated to ensure that the ADFA compensatory mitigation requirement, or its equivalent, is met and all habitat impacts for each respective resource (e.g., wildlife, shorebird, waterfowl, and mid-season fish rearing) are adequately compensated.

Other matters for the DRSEIS II may include, but are not limited to, a review of: hypoxia, the cost-benefit analysis, Swampbuster provisions, the 2.5% discount rate, cost-share issues for levee closure, and other relevant subjects or information.

2. Reasonable Alternatives

The recommended flood damage reduction features as outlined in the RSEIS would not be addressed in this DRSEIS. Therefore, no additional flood damage reduction alternatives would be analyzed in the St. Johns Bayou Basin or the New Madrid Floodway. In addition to clarifying the inconsistency concerning the required amount of mitigation, the DRSEIS II would also address additional mitigation features to compensate for the unavoidable impacts to fish and wildlife resources.

Reforestation of frequently flooded agricultural land remains one means of providing the required 8375 ADFA of compensatory mitigation. If reforestation of agricultural lands were the only compensatory mitigation method employed, then the actual acres required would be no less than 8375 acres (assuming each acre is an ADFA), and could conceivably be more in order to assure that the ADFA equivalent habitat requirement is also met.

In addition to reforestation of agricultural areas, other compensatory mitigation measures would also be formulated. These measures include but are not limited to calculating expected benefits to mid-season fish rearing habitat from the creation of shorebird areas (moist soil units) and the Big Oak Tree State Park water supply feature, creation and/or enhancement of permanent waterbody features, and creation and/or enhancement of backwater flooding events. Measures that provide the highest duration of flooding during the mid-season fish rearing period (1 April to 15 May) offer the highest potential benefits.

Other matters such as hypoxia, the cost-benefit analysis, Swampbuster provisions, the 2.5% discount rate, cost-share issues for levee closure, and other relevant subjects or information, may also be explored in the DRSEIS II.

3. The Corps Scoping Process

Coordination with appropriate resource and regulatory agencies would be maintained throughout the formulation of this DRSEIS II. Comments and concerns that have been expressed since the signing of the ROD will be used to identify significant issues. This Notice of Intent also serves as a scoping document. The purpose of this notice is to advise all interested parties of the intent to supplement the RSEIS and to solicit comments and information concerning compensatory mitigation, hypoxia, the cost-benefit analysis, Swampbuster provisions, the 2.5% discount rate, cost-share issues for levee closure, and other relevant subjects or information. Comments would be used to determine opportunities to develop additional compensatory mitigation strategies and other strategies that relate to, but are not limited to, hypoxia, the cost-benefit analysis, Swampbuster provisions, the 2.5% discount rate, cost-share issues for levee closure, and any other relevant subject or information, and to evaluate the probable impact (including cumulative impacts) of compensatory mitigation, as well as the probable impacts of such issues that may include, but are not limited to, hypoxia, the cost-benefit analysis, Swampbuster provisions, the 2.5% discount rate, cost-share issues for levee closure, and any other relevant subjects or information. This notice is being circulated to Federal, State, and local environmental resource and regulatory agencies; Indian Tribes; non-governmental organizations, and the general public.

Comments to this Notice of Intent are requested by 5 August 2005 at the above address. It is anticipated that the DRSEIS II will be available for public review in August 2005.

Vincent D. Navarre,
Major, Corps of Engineers, Deputy District Engineer, Memphis District.

[FR Doc. 05-14165 Filed 7-21-05; 8:45 am]

BILLING CODE 3710-KS-P